DEPARTMENT OF ENERGY

Federal Energy Regulatory Commission

Combined Notice of Filings

Take notice that the Commission has received the following Natural Gas Pipeline Rate and Refund Report filings:

Docket Number: PR21-25-000.

Applicants: NorthWestern Corporation.

Description: Tariff filing per 284.123(b),(e)/: Revised Transportation & Storage Rates (Tax Tracker) to be effective 1/1/2021.

Filed Date: 2/1/2021.

Accession Number: 202102015055.

Comments/Protests Due: 5 p.m. ET2/22/2021.

Docket Numbers: RP11-1711-000.

Applicants: Texas Gas Transmission, LLC.

Description: Report Filing: 2020 Cash Out Filing.

Filed Date: 1/29/21.

Accession Number: 20210129-5041.

Comments Due: 5 p.m. ET 2/10/21.

Docket Numbers: RP21-232-002.

Applicants: Cheniere Corpus Christi Pipeline, LP.

Description: Compliance filing Section 157.20(c)(2) Compliance in Docket No. CP18-513, et al—Eff 1/26/2021 to be effective 1/26/2021.

Filed Date: 1/29/21.

Accession Number: 20210129-5199.

Comments Due: 5 p.m. ET 2/10/21.

Docket Numbers: RP21-415-000.

Applicants: Algonquin Gas Transmission, LLC.

Description: § 4(d) Rate Filing: Negotiated Rates—Various Releases eff 2-1-2021 to be effective 2/1/2021.

Filed Date: 1/29/21.

Accession Number: 20210129-5008.

Comments Due: 5 p.m. ET 2/10/21.

Docket Numbers: RP21-416-000.

Applicants: Eastern Gas Transmission and Storage, Inc.

Description: § 4(d) Rate Filing: Eastern GTS—January 29th, 2021—Negotiated Rate Agreement to be effective 2/1/2021.

Filed Date: 1/29/21.

Accession Number: 20210129-5012.

Comments Due: 5 p.m. ET 2/10/21.

Docket Numbers: RP21-417-000.

Applicants: Kinder Morgan Louisiana Pipeline LLC.

Description: Compliance filing Penalty Revenue Crediting Report-KMLP 12 months ending December 2020.

Filed Date: 1/29/21.

Accession Number: 20210129-5018.

Comments Due: 5 p.m. ET 2/10/21.

Docket Numbers: RP21-418-000.

Applicants: Kinder Morgan Illinois Pipeline LLC.

Description: Compliance filing Penalty Revenue Annual Report for 2020.

Filed Date: 1/29/21.

Accession Number: 20210129-5021.

Comments Due: 5 p.m. ET 2/10/21.

Docket Numbers: RP21-419-000.

Applicants: Great Lakes Gas Transmission Limited Partnership.

Description: Compliance filing Semi-Annual Transporter's Use Report January 2021.

Filed Date: 1/29/21.

Accession Number: 20210129-5036.

Comments Due: 5 p.m. ET 2/10/21.

Docket Numbers: RP21-420-000.

Applicants: WBI Energy Transmission, Inc.

Description: § 4(d) Rate Filing: 2021 ACA Update to FERC Link to be effective 3/1/2021.

Filed Date: 1/29/21.

Accession Number: 20210129-5051.

Comments Due: 5 p.m. ET 2/10/21.

Docket Numbers: RP21-421-000.

Applicants: Panhandle Eastern Pipe Line Company, LP.

Description: § 4(d) Rate Filing: Negotiated Rate Filing on 1-29-21 to be effective 2/1/2021.

Filed Date: 1/29/21.

Accession Number: 20210129-5068.

Comments Due: 5 p.m. ET 2/10/21.

Docket Numbers: RP21-422-000.

Applicants: Texas Eastern Transmission, LP.

Description: § 4(d) Rate Filing: Negotiated Rates—Gulfport 911377 Release eff 2-1-21 to be effective 2/1/2021.

Filed Date: 1/29/21.

Accession Number: 20210129-5071.

Comments Due: 5 p.m. ET 2/10/21.

Docket Numbers: RP21-423-000.

Applicants: Wyoming Interstate Company, L.L.C.

Description: § 4(d) Rate Filing: FL&U Quarterly Update to be effective 3/1/2021.

Filed Date: 1/29/21.

Accession Number: 20210129-5073.

Comments Due: 5 p.m. ET 2/10/21.

Docket Numbers: RP21-424-000.

Applicants: Gulf South Pipeline Company, LLC.

Description: § 4(d) Rate Filing: Cap Rel Neg Rate Agmts (Atlanta 8438 releases eff 2-1-2021) to be effective2/1/2021.

Filed Date: 1/29/21.

Accession Number: 20210129-5097.

Comments Due: 5 p.m. ET 2/10/21.

Docket Numbers: RP21-425-000.

Applicants: Gulf South Pipeline Company, LLC.

Description: § 4(d) Rate Filing: Cap Rel Neg Rate Agmts (Marathon releases eff 2-1-2021) to be effective 2/1/2021.

Filed Date: 1/29/21.

Accession Number: 20210129-5099.

Comments Due: 5 p.m. ET 2/10/21.

Docket Numbers: RP21-426-000.

Applicants: Northern Natural Gas Company.

Description: § 4(d) Rate Filing: 20210129 Negotiated Rate to be effective 2/1/2021.

Filed Date: 1/29/21.

Accession Number: 20210129-5100.

Comments Due: 5 p.m. ET 2/10/21.

Docket Numbers: RP21-427-000.

Applicants: LA Storage, LLC.

Description: § 4(d) Rate Filing: Filing of Negotiated Rate, Conforming IW Agreement (Indigo) to be effective 2/1/2021.

Filed Date: 1/29/21.

Accession Number: 20210129-5134.

Comments Due: 5 p.m. ET 2/10/21.

Docket Numbers: RP21-428-000.

Applicants: Enable Mississippi River Transmission, LLC.

Description: § 4(d) Rate Filing: MRT Filing to Correct Tariff Record—Feb 1, 2021 to be effective 2/1/2021.

Filed Date: 1/29/21.

Accession Number: 20210129-5135.

Comments Due: 5 p.m. ET 2/10/21.

Docket Numbers: RP21-429-000.

Applicants: Rockies Express Pipeline LLC.

Description: § 4(d) Rate Filing: REX 2021-01-29 Negotiated Rate Agreements to be effective 2/1/2021.

Filed Date: 1/29/21.

Accession Number: 20210129-5141.

Comments Due: 5 p.m. ET 2/10/21.

Docket Numbers: RP21-430-000.

Applicants: Transcontinental Gas Pipe Line Company, LLC.

Description: § 4(d) Rate Filing: Negotiated Rates—Cherokee AGL—Replacement Shippers—Feb 2021 to be effective 2/1/2021.

Filed Date: 1/29/21.

Accession Number: 20210129-5144.

Comments Due: 5 p.m. ET 2/10/21.

Docket Numbers: RP21-431-000.

Applicants: Florida Gas Transmission Company, LLC.

Description: § 4(d) Rate Filing: New Service Agreements—Topaz to be effective 2/1/2021.

Filed Date: 1/29/21.

Accession Number: 20210129-5165.

Comments Due: 5 p.m. ET 2/10/21.

Docket Numbers: RP21-432-000.

Applicants: Southern Star Central Gas Pipeline, Inc.

Description: § 4(d) Rate Filing: Annual Modernization Capital Cost Recovery Mechanism- Eff. March 1, 2021 to be effective 3/1/2021.

Filed Date: 1/29/21.

Accession Number: 20210129-5167.

Comments Due: 5 p.m. ET 2/10/21.

Docket Numbers: RP21-433-000.

Applicants: Florida Gas Transmission Company, LLC.

Description: § 4(d) Rate Filing: Update Non-Conforming List (Topaz) to be effective 2/1/2021.

Filed Date: 1/29/21.

Accession Number: 20210129-5168.

Comments Due: 5 p.m. ET 2/10/21.

Docket Numbers: RP21-434-000.

Applicants: Natural Gas Pipeline Company of America.

Description: § 4(d) Rate Filing: Negotiated Non-Conforming Rate Agreement Filing-Corpus Christi Liquefaction, LLC to be effective 3/1/2021.

Filed Date: 1/29/21.

Accession Number: 20210129-5178.

Comments Due: 5 p.m. ET 2/10/21.

Docket Numbers: RP21-435-000.

Applicants: Maritimes & Northeast Pipeline, L.L.C.

Description: § 4(d) Rate Filing: Negotiated Rates—Essential Power K210032 eff 02-01-21 to be effective2/1/2021.

Filed Date: 1/29/21.

Accession Number: 20210129-5182.

Comments Due: 5 p.m. ET 2/10/21.

Docket Numbers: RP21-436-000.

Applicants: Steckman Ridge, LP.

Description: § 4(d) Rate Filing: Steckman Title Transfer Process Update eff 3-4-21 to be effective 3/4/2021.

Filed Date: 1/29/21.

Accession Number: 20210129-5204.

Comments Due: 5 p.m. ET 2/10/21.

Docket Numbers: RP21-437-000.

Applicants: Rockies Express Pipeline LLC.

Description: § 4(d) Rate Filing: REX 2021-01-29 Non-Conforming Negotiated Rate Amendment to be effective 2/1/2021.

Filed Date: 1/29/21.

Accession Number: 20210129-5208.

Comments Due: 5 p.m. ET 2/10/21.

Docket Numbers: RP21-438-000.

Applicants: Columbia Gas Transmission, LLC.

Description: § 4(d) Rate Filing: Ascent Resources Negotiated Rate Amendment to be effective 2/1/2021.

Filed Date: 2/1/21.

Accession Number: 20210201-5021.

Comments Due: 5 p.m. ET 2/16/21.

Docket Numbers: RP21-439-000.

Applicants: Eastern Gas Transmission and Storage, Inc.

Description: § 4(d) Rate Filing: Eastern GTS—Modifications to ACA Links to be effective 3/4/2021.

Filed Date: 2/1/21.

Accession Number: 20210201-5031.

Comments Due: 5 p.m. ET 2/16/21.

Docket Numbers: RP21-440-000.

Applicants: Cove Point LNG, LP.

Description: § 4(d) Rate Filing: Cove Point—Modifications to ACA Links to be effective 3/4/2021.

Filed Date: 2/1/21.

Accession Number: 20210201-5041.

Comments Due: 5 p.m. ET 2/16/21

Docket Numbers: RP21-441-000.

Applicants: Florida Gas Transmission Company, LLC.

Description: § 4(d) Rate Filing: Rate Case Filed on 2-1-21 to be effective3/1/2021.

Filed Date: 2/1/21.

Accession Number: 20210201-5087.

Comments Due: 5 p.m. ET 2/16/21.

Docket Numbers: RP21-442-000.

Applicants: Algonquin Gas Transmission, LLC.

Description: § 4(d) Rate Filing: Negotiated Rate—Consolidated Edison 510371 eff 2-2-2021 to be effective2/2/2021.

Filed Date: 2/1/21.

Accession Number: 20210201-5106.

Comments Due: 5 p.m. ET 2/16/21.

Docket Numbers: RP21-443-000

Applicants: Algonquin Gas Transmission, LLC.

Description: § 4(d) Rate Filing: Negotiated Rate—Consolidated Edison 510371 eff 2-1-2021 to be effective2/1/2021.

Filed Date: 2/1/21.

Accession Number: 20210201-5110.

Comments Due: 5 p.m. ET 2/16/21.

Docket Numbers: RP21-444-000.

Applicants: Gulf South Pipeline Company, LLC.

Description: § 4(d) Rate Filing: Amendment to Neg Rate Agmt (Uniper 46406) to be effective 2/1/2021.

Filed Date: 2/1/21.

Accession Number: 20210201-5123.

Comments Due: 5 p.m. ET 2/16/21.

Docket Numbers: RP21-445-000.

Applicants: Gulf South Pipeline Company, LLC.

Description: § 4(d) Rate Filing: Perm Rel Devon 51759 to BKV 53579, re-release to Concord 53582 filing to be effective 2/1/2021.

Filed Date: 2/1/21.

Accession Number: 20210201-5124.

Comments Due: 5 p.m. ET 2/16/21.

Docket Numbers: RP21-446-000.

Applicants: Gulf South Pipeline Company, LLC.

Description: § 4(d) Rate Filing: Cap Rel Neg Rate Agmt (Constellation 53545 to Exelon 53591) to be effective 2/1/2021.

Filed Date: 2/1/21.

Accession Number: 20210201-5125.

Comments Due: 5 p.m. ET 2/16/21.

Docket Numbers: RP21-447-000.

Applicants: Transcontinental Gas Pipe Line Company, LLC.

Description: § 4(d) Rate Filing: Rate Schedule S-2 Tracker Filing eff 2-1-2021 to be effective 2/1/2021.

Filed Date: 2/1/21.

Accession Number: 20210201-5141.

Comments Due: 5 p.m. ET 2/16/21.

Docket Numbers: RP21-448-000.

Applicants: Northern Natural Gas Company.

Description: § 4(d) Rate Filing: 20210201 Annual PRA to be effective4/1/2021.

Filed Date: 2/1/21.

Accession Number: 20210201-5172.

Comments Due: 5 p.m. ET 2/16/21.

Docket Numbers: RP21-449-000.

Applicants: Equitrans, L.P.

Description: § 4(d) Rate Filing: Negotiated Rate Capacity Release Agreements—2/1/2021 to be effective2/1/2021.

Filed Date: 2/1/21.

Accession Number: 20210201-5191.

Comments Due: 5 p.m. ET 2/16/21.

Docket Numbers: RP21-450-000.

Applicants: White River Hub, LLC.

Description: § 4(d) Rate Filing: Non-conforming TSAs V. 4.0.0 to be effective 3/3/2021.

Filed Date: 2/1/21.

Accession Number: 20210201-5198.

Comments Due: 5 p.m. ET 2/16/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 2, 2021.
Nathaniel J. Davis, Sr.,
Deputy Secretary.

[FR Doc. 2021-02501 Filed 2-5-21; 8:45 am]

BILLING CODE 6717-01-P